DEPARTMENT OF HOUSING AND URBAN DEVELOPMENT

[Docket No. FR-5382-N-03]

Notice of Proposed Information Collection for Public Comment: Housing Counseling Outcomes Study

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: April 27, 2010.

ADDRESSES: Interested persons are invited to submit comments regarding this proposal. Comments should refer to the proposal by name and/or OMB Control number and should be sent to: Reports Liaison Officer, Office of Policy Development and Research, Department of Housing and Urban Development, 451 7th Street, SW., Room 8226, Washington, DC 20410-5000.

FOR FURTHER INFORMATION CONTACT: Marina L. Myhre, (202) 708-3700, extension 5705 for copies of the proposed forms and other available documents. (This is not a toll-free number.)

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Housing Counseling Outcomes Study.

Description of the need for the information and proposed use: This request is for the clearance of survey instruments designed to provide statistically accurate information on the outcomes realized by clients of HUD-approved counseling agencies seeking assistance to either purchase a home (pre-purchase clients) or to resolve or prevent mortgage delinquency (post-purchase clients). Fourteen-hundred and thirty counseling clients have already been recruited to voluntarily participate in the study. In granting their informed consent to participate in the study, these counseling clients agreed to be contacted by telephone 12 months following the receipt of counseling to complete a survey about their counseling experience and their current housing situation. The purpose of this survey is to gather information needed to both document the share of clients realizing different outcomes following counseling and to analyze how these outcomes vary with the characteristics of clients and the services they receive.

OMB Approval Number: Pending.

Agency form numbers: None.

Members of Affected Public: Fourteen-hundred and thirty housing counseling clients.

Estimation of the total number of hours needed to prepare the information collection including number of respondents, frequency of response, and hours of response: The average time per client for completing the telephone survey is one-half hour. Of the fourteen-hundred and thirty clients in the study, 978 are expected to complete the survey. Thus, total burden hours are 489 hours for counseling clients.

Status of the proposed information collection: Pending OMB approval.

Authority: Section 3506 of the Paperwork Reduction Act of 1995, 44 U.S.C. Chapter 35, as amended.

Dated: February 21, 2010.
Raphael W. Bostic,
Assistant Secretary for Policy Development and Research.

[FR Doc. 2010-4007 Filed 2-25-10; 8:45 am]

BILLING CODE 4210-67-P